DEPARTMENT OF THE INTERIOR

Bureau of Land Management

[OR-014-01-1430-EU; GP-03-0051]

Notice of Realty Action; Direct Sale of Public Lands in Klamath County, OR (OR 53190)

AGENCY: Bureau of Land Management, Interior.

ACTION: Notice of realty action.

SUMMARY: The following land has been found suitable and is classified for direct sale under sections 203 and 209 of the Federal Land Policy and Management Act of 1976, 43 U.S.C. 1713 and 43 U.S.C. 1719, and Section 7 of the Taylor Grazing Act (42 U.S.C. 315f). The land will be sold at no less than the fair market value of $ 2,000.00. The land will not be offered for sale until May 12, 2003.

Willamette Meridian,

T. 40 S., R. 6 E.

Section 1 Metes and Bounds survey

Containing approximately 1.01 acres.

ADDRESSES: Detailed information concerning the sale, including the reservations, sale procedures, and planning and environmental documents, is available at the Klamath Falls Field Office, 2795 Anderson Ave. Building 25, Klamath Falls, Oregon 97603.

FOR FURTHER INFORMATION CONTACT: Linda Younger at (541) 883-6916.

SUPPLEMENTARY INFORMATION: The above described land is hereby segregated from appropriation under the public land laws, including the mining laws, but not from sale under the above cited statutes, for 270 days or until title transfer is completed or the segregation is terminated by publication in the Federal Register, whichever occurs first.

This land has been identified for sale to the holder of a permanent occupancy lease. No significant resource values will be affected by this disposal. The sale is consistent with BLM's planning for the land involved and the public interest will be served by the sale.

Purchasers must be U.S. citizens, 18 years of age or older, a state or state instrumentality authorized to hold property, or a corporation authorized to own real estate in the state in which the land is located.

The lands are being offered to Mark Collier using the direct sale procedures authorized under 43 CFR 2710.6.(B)(iii). Direct sale is appropriate because Mr. Collier owns land adjacent and is presently leasing this 1.01 acres. His house is located on part of this one acre parcel, is to resolve any inadvertent unauthorized use.

The terms, conditions, and reservations applicable to this sale are as follows:

1. A right-of-way for ditches and canals will be reserved to the United States under 43 U.S.C. 945.

2. All oil and gas and geothermal resources in the land will be reserved to the United States in accordance with section 209 of the Federal Land Policy and Management Act. 1976.

3. The mineral interests being offered for conveyance have no known mineral value. The acceptance of a direct sale offer will constitute an application for conveyance of the mineral estate, with the exception of the oil and gas and geothermal interests which will be reserved to the United States in accordance with section 209 of the Federal Land Policy and Management Act of 1976.

4. Patents will be issued subject to all valid existing rights and reservations of record.

Interested parties may submit comments to the Field Manager, Klamath Falls Resource Area Office at the above address until April 28, 2003. Objections will be reviewed by the Lakeview District Manager who may sustain, vacate, or modify this realty action. In absence of any objections, this realty action will become the final action of the Department of the Interior.

Dated: January 7, 2003.
Teresa A. Raml,
Field Manager, Klamath Falls Resource Area.

[FR Doc. 03-5838 Filed 3-11-03; 8:45 am]

BILLING CODE 4310-33-P